NATIONAL TRANSPORTATION SAFETY BOARD

Sunshine Act Meetings

TIME AND DATE: 9:30 a.m., Tuesday, June 5, 2018.

PLACE: NTSB Conference Center, 429 L'Enfant Plaza SW, Washington, DC 20594.

STATUS: The one item is open to the public.

MATTERS TO BE CONSIDERED:

57951 Marine Accident Report—Fire aboard Roll-on/Roll-off Passenger Vessel Caribbean Fantasy, Atlantic Ocean, 2 Miles Northwest of San Juan, Puerto Rico, August 17, 2016.

CONTACT PERSON FOR MORE INFORMATION: News Media Contact: Telephone: (202) 314-6100.

The press and public may enter the NTSB Conference Center one hour prior to the meeting for set up and seating.

Individuals requesting specific accommodations should contact Rochelle McCallister at (202) 314-6305 or by email at Rochelle.McCallister@ntsb.gov by Wednesday, May 30, 2018.

The public may view the meeting via a live or archived webcast by accessing a link under “News & Events” on the NTSB home page at www.ntsb.gov.

Schedule updates, including weather-related cancellations, are also available at www.ntsb.gov.

For More Information Contact: Candi Bing at (202) 314-6403 or by email at bingc@ntsb.gov.

For Media Information Contact: Keith Holloway at (202) 314-6100 or by email at keith.holloway@ntsb.gov.

Dated: May 17, 2018.
LaSean McCray,
Assistant Federal Register Liaison Officer.

[FR Doc. 2018-10865 Filed 5-17-18; 11:15 am]

BILLING CODE 7533-01-P